SECURITIES AND EXCHANGE COMMISSION

[Release No. IC-26831A; File No. 812-13129]

John Hancock Life Insurance Company, et al.

April 12, 2005.

AGENCY: Securities and Exchange Commission.

ACTION: This is to amend and restate the “Hearing of Notification” section in a notice issued April 11, 2005 on an application authorizing the substitution of shares of certain series of John Hancock Trust for shares of certain series of various registered investment companies under Section 26(c) of the Investment Company Act of 1940 (Investment Company Act Release No. 26831).

The amended and restated “Hearing of Notification” section now reads as follows:

Hearing of Notification: An order granting the application will be issued unless the Commission orders a hearing. Interested persons may request a hearing by writing to the Secretary of the Commission and serving Applicants with a copy of the request personally or by mail. Hearing requests should be received by the Commission by 5:30 p.m. on April 28, 2005 and should be accompanied by proof of service on Applicants, in the form of an affidavit or for lawyers a certificate of service. Hearing requests should state the nature of the writer's interest, the reason for the request and the issues contested. Persons may request notification of a hearing by writing to the Secretary of the Commission.

For the Commission, by the Division of Investment Management, under delegated authority.
Jonathan G. Katz,
Secretary.

[FR Doc. 05-7602 Filed 4-12-05; 3:34 pm]

BILLING CODE 8010-01-P